FEDERAL MARITIME COMMISSION

[Docket No. 25-05]

Francis Sheka Kanu, Complainant v. Ejike Dickson Eze dba Ejike International Trade Limited; Sealines International; Seamates International, Inc.; and Maersk, Respondents; Notice of Filing of Complaint and Assignment; Served: March 17, 2025

Notice is given that a complaint has been filed with the Federal Maritime Commission (the “Commission”) by Francis Sheka Kanu (the “Complainant”) against Ejike Dickson Eze dba Ejike International Trade Limited; Sealines International; Seamates International, Inc.; and Maersk (the “Respondents”). Complainant states that the Commission has jurisdiction over this complaint pursuant to 46 U.S.C. 1701 et seq.

Complainant is an individual whose principal place of business is located in North Carolina.

Complainant identifies Respondent Ejike Dickson Eze dba Ejike International Trade Limited as a limited liability company registered in North Carolina with its principal place of business located in Charlotte, North Carolina.

Complainant identifies Respondents Sealines International and Seamates International, Inc. as corporations duly incorporated in North Carolina with their principal place of business located in Cherryville, North Carolina.

Complainant identifies Respondent Maersk as a corporation with its principal office located in Charlotte, North Carolina.

Complainant alleges that Respondents violated 46 U.S.C. 41102(a) and (c), 41104(a)(4), and 1710(a). Complainant alleges these violations arose from a failure to deliver a shipment to the port identified in the bill of lading, and other acts or omissions of the Respondents.

An answer to the complaint must be filed with the Commission within 25 days after the date of service.

The full text of the complaint can be found in the Commission's electronic Reading Room at https://www2.fmc.gov/readingroom/proceeding/25-05/. This proceeding has been assigned to the Office of Administrative Law Judges. The initial decision of the presiding judge shall be issued by March 17, 2026, and the final decision of the Commission shall be issued by October 1, 2026.

David Eng,
Secretary.

[FR Doc. 2025-04825 Filed 3-20-25; 8:45 am]

BILLING CODE 6730-02-P